FEDERAL MARITIME COMMISSION

Notice of Agreement Filed

The Commission hereby gives notice of the filing of the following agreement under the Shipping Act of 1984. Interested parties may submit comments on the agreement to the Secretary, Federal Maritime Commission, Washington, DC 20573, within ten days of the date this notice appears in the Federal Register. A copy of the agreement is available through the Commission's Web site (http://www.fmc.gov) or by contacting the Office of Agreements at (202) 523-5793 or tradeanalysis@fmc.gov.

Agreement No.: 011579-016.

Title: Inland Shipping Service Association Agreement.

Parties: Crowley Latin America Services, LLC; Seaboard Marine, Ltd. and Seaboard Marine of Florida, Inc.

Filing Party: Wayne R. Rohde, Esq.; Sher & Blackwell LLP; 1850 M Street, NW.; Suite 900; Washington, DC 20036.

Synopsis: The amendment makes various changes to convert the Agreement from a conference agreement to a voluntary discussion agreement.

By Order of the Federal Maritime Commission.
Dated: June 18, 2010.
Karen V. Gregory,
Secretary.

[FR Doc. 2010-15230 Filed 6-22-10; 8:45 am]

BILLING CODE 6730-01-P